DEPARTMENT OF ENERGY

Federal Energy Regulatory Commission

Combined Notice of Filings #2

Take notice that the Commission received the following electric corporate filings:

Docket Numbers: EC12-82-000.

Applicants: Ridgeline Alternative Energy, LLC, Wolverine Creek Goshen Interconnection LLC.

Description: Joint Application for Authorization under Section 203 of the Federal Power Act and Request for Confidential Treatment, Expedited Consideration and Waivers of Ridgeline Alternative Energy, LLC and Wolverine Creek Goshen Interconnection.

Filed Date: 3/16/12.

Accession Number: 20120316-5077.

Comments Due: 5 p.m. ET 4/6/12.

Take notice that the Commission received the following electric rate filings:

Docket Numbers: ER10-2384-001; ER10-2383-001.

Applicants: Mountain Wind Power LLC, Mountain Wind Power II LLC.

Description: Notice of Non-Material Change in Status of Mountain Wind Power, LLC, et al.

Filed Date: 3/14/12.

Accession Number: 20120314-5134.

Comments Due: 5 p.m. ET 4/4/12.

Docket Numbers: ER11-3420-004.

Applicants: Gridway Energy Corp.

Description: Supplemental Data Response to be effective 3/16/2012.

Filed Date: 3/16/12.

Accession Number: 20120316-5025.

Comments Due: 5 p.m. ET 4/6/12.

Docket Numbers: ER12-665-002.

Applicants: ITC Midwest LLC.

Description: ITC Midwest LLC submits tariff filing per 35.17(b): Amendment Filing to be effective 2/21/2012.

Filed Date: 3/16/12.

Accession Number: 20120316-5075.

Comments Due: 5 p.m. ET 4/6/12.

Docket Numbers: ER12-1275-000.

Applicants: Wisconsin Public Service Corporation.

Description: Annual PEB/PBOP Filing Wisconsin Public Service Corporation to be effective 4/1/2012.

Filed Date: 3/16/12.

Accession Number: 20120316-5019.

Comments Due: 5 p.m. ET 4/6/12.

Docket Numbers: ER12-1276-000.

Applicants: PPL EnergyPlus, LLC.

Description: Certificate of Concurrence to be effective 12/22/2011.

Filed Date: 3/16/12.

Accession Number: 20120316-5027.

Comments Due: 5 p.m. ET 4/6/12.

Docket Numbers: ER12-1277-000.

Applicants: The Legacy Energy Group, LLC.

Description: The Legacy Energy Group, LLC Market Based Rate Tariff to be effective 3/19/2012.

Filed Date: 3/16/12.

Accession Number: 20120316-5044.

Comments Due: 5 p.m. ET 4/6/12.

Docket Numbers: ER12-1278-000.

Applicants: Southern California Edison Company.

Description: Amended Letter Agreement SCE-Rising Tree Wind Farm LLC to be effective 3/17/2012.

Filed Date: 3/16/12.

Accession Number: 20120316-5048.

Comments Due: 5 p.m. ET 4/6/12.

Docket Numbers: ER12-1279-000.

Applicants: BluCo Energy LLC.

Description: Baseline Filing to be effective 3/16/2012.

Filed Date: 3/16/12.

Accession Number: 20120316-5049.

Comments Due: 5 p.m. ET 4/6/12.

Docket Numbers: ER12-1280-000.

Applicants: Wolverine Creek Energy LLC.

Description: Filing of Amended Common Facilities Agreement to be effective 3/16/2012.

Filed Date: 3/16/12.

Accession Number: 20120316-5055.

Comments Due: 5 p.m. ET 4/6/12.

Docket Numbers: ER12-1281-000.

Applicants: Wolverine Creek Goshen Interconnection LLC.

Description: Filing of Amended Common Facilities Agreement to be effective 3/16/2012.

Filed Date: 3/16/12.

Accession Number: 20120316-5057.

Comments Due: 5 p.m. ET 4/6/12.

Docket Numbers: ER12-1282-000.

Applicants: Southwest Power Pool, Inc.

Description: Southwest Power Pool, Inc. submits tariff filing per 35.13(a)(2)(iii): Revisions to Section 23—Sale or Assignment of Transmission Service & Att. A-1 to be effective 3/16/2012.

Filed Date: 3/16/12.

Accession Number: 20120316-5099.

Comments Due: 5 p.m. ET 4/6/12.

Docket Numbers: ER12-1283-000.

Applicants: Midwest Independent Transmission System Operator, Inc.

Description: Midwest Independent Transmission System Operator, Inc. submits tariff filing per 35.13(a)(2)(iii): 03-16-12 Module E-2 to be effective 10/1/2012.

Filed Date: 3/16/12.

Accession Number: 20120316-5105.

Comments Due: 5 p.m. ET 4/6/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 16, 2012.
Nathaniel J. Davis, Sr.,
Deputy Secretary.

[FR Doc. 2012-7140 Filed 3-23-12; 8:45 am]

BILLING CODE 6717-01-P